DEPARTMENT OF THE INTERIOR

Geological Survey

[GX21ED00CPN00; OMB Control Number 1028-0119/Renewal]

Agency Information Collection Activities; Submission to the Office of Management and Budget for Review and Approval; EROS Registration Service

AGENCY: U.S. Geological Survey, Interior.

ACTION: Notice of information collection; request for comment.

SUMMARY: In accordance with the Paperwork Reduction Act of 1995 (PRA), the U.S. Geological Survey (USGS) is proposing a renewal of an information collection.

DATES: Interested persons are invited to submit comments on or before September 28, 2022.

ADDRESSES: Written comments and recommendations for the proposed information collection should be sent within 30 days of publication of this notice to www.reginfo.gov/public/do/PRAMain. Find this particular information collection by selecting “Currently under Review—Open for Public Comments” or by using the search function. Please provide a copy of your comments to the U.S. Geological Survey, Information Collections Officer, 12201 Sunrise Valley Drive MS 159, Reston, VA 20192, or by email to gs-info_collections@usgs.gov. Please reference OMB Control Number 1028-0119 in the subject line of your comments.

FOR FURTHER INFORMATION CONTACT: To request additional information about this Information Collection Request (ICR), contact Ryan Longhenry by email at rlonghenry@usgs.gov, or by telephone at 605-594-6179. Individuals in the United States who are deaf, deafblind, hard of hearing, or have a speech disability may dial 711 (TTY, TDD, or TeleBraille) to access telecommunications relay services. Individuals outside the United States should use the relay services offered within their country to make international calls to the point-of-contact in the United States. You may also view the ICR at http://www.reginfo.gov/public/do/PRAMain.

SUPPLEMENTARY INFORMATION: In accordance with the PRA, we provide the general public and other Federal agencies with an opportunity to comment on proposed, revised, and continuing collections of information. This helps us assess the impact of our information collection requirements and minimize the public's reporting burden. It also helps the public understand our information collection requirements and provide the requested data in the desired format.

A Federal Register notice with a 60-day public comment period soliciting comments on this collection of information was published on June 22, 2022 (87 FR 37356). No comments were received in response to this notice.

We are again soliciting comments on the proposed ICR that is described below. We are especially interested in public comment addressing the following issues: (1) is the collection necessary to the proper functions of the USGS; (2) will this information be processed and used in a timely manner; (3) is the estimate of burden accurate; (4) how might the USGS enhance the quality, utility, and clarity of the information to be collected; and (5) how might the USGS minimize the burden of this collection on the respondents, including through the use of information technology.

Comments that you submit in response to this notice are a matter of public record. Before including your address, phone number, email address, or other personally identifiable information (PII) in your comment, you should be aware that your entire comment—including your PII—may be made publicly available at any time. While you may ask us in your comment to withhold your PII from public review, we cannot guarantee that we will be able to do so.

Abstract: The USGS proposes to collect general demographic information about public users who download products from USGS user interfaces. This information helps address Congressional, OMB, and DOI inquiries regarding common data uses and affiliations, along with other questions used to justify maintaining the free distribution of USGS land remote sensing data. The information collected in the database includes the names, affiliations, addresses, email addresses, and telephone numbers of individuals. The information is gathered to facilitate the reporting of demographic data for use of USGS applications. Demographic data is also used to make decisions on future functional requirements within the system.

The information is stored on an internal encrypted database. In some cases, contact information is required in order to notify the customer regarding data availability. Email information is also utilized for two-factor authentication. The registration system does not derive new data and does not create new data through aggregation.

PII is not used as search criteria. Access to the information is governed by the least privileged access methodology. Authorized individuals with specifically granted access to the Privacy Act data can retrieve only by account number or order number Personal data is encrypted while stored in the database. Contact ID is generated when account is created.

Title of Collection: EROS Registration Service.

OMB Control Number: 1028-0119.

Form Number: None.

Type of Review: Extension of a currently approved collection.

Respondents/Affected Public: Federal Agencies, state, tribal, and non-government individuals who have requested USGS products from USGS distribution applications are covered in this system. The system has only one category for individuals.

Total Estimated Number of Annual Respondents: Approximately 335,000 respondents on an annual basis.

Total Estimated Number of Annual Responses: Approximately 335,000 respondents on an annual basis.

Estimated Completion Time per Response: We estimate that it will take 2 minutes per response to submit the requested information.

Total Estimated Number of Annual Burden Hours: 11,167.

Respondent's Obligation: Required to obtain or retain a benefit.

Frequency of Collection: One time.

Total Estimated Annual Non-hour Burden Cost: There are no “non-hour cost” burdens associated with this collection of information.

An agency may not conduct or sponsor, nor is a person required to respond to, a collection of information unless it displays a currently valid OMB control number.

The authority for this action is the PRA (44 U.S.C. 3501, et seq.).

John M. Hahn,
Acting USGS EROS Center Director.

[FR Doc. 2022-18545 Filed 8-26-22; 8:45 am]

BILLING CODE 4338-11-P